DEPARTMENT OF THE INTERIOR

Fish and Wildlife Service

50 CFR Part 17

Endangered and Threatened Wildlife and Plants; 12-Month Finding for a Petition to Revise Critical Habitat for the Cape Sable Seaside Sparrow

AGENCY: Fish and Wildlife Service, Interior.

ACTION: Notice of 12-month petition finding.

SUMMARY: We, the U.S. Fish and Wildlife Service (Service), announce a 12-month finding on a petition to revise critical habitat for the Cape Sable seaside sparrow (Ammodramus maritimus mirabilis), under the Endangered Species Act of 1973, as amended (Act). After review of all available scientific and commercial information, we find that revision of critical habitat is warranted. Currently, most of our listing budget must be directed to complying with numerous court orders, settlement agreements, litigation related activities, and due and overdue final listing determinations. We will proceed with a proposal to revise critical habitat for the Cape Sable seaside sparrow as soon as feasible, considering our workload priorities and available funding. We continue to address habitat needs of the sparrow through coordination with agencies that manage land and water in South Florida.

ADDRESSES: The complete file for this finding, including comments and information submitted, is available for public inspection, by appointment, during normal business hours at the South Florida Ecological Services Office, U.S. Fish and Wildlife Service, 1339 20th Street, Vero Beach, FL 32960-3559.

FOR FURTHER INFORMATION CONTACT: David Martin (see ADDRESSES section), telephone 561/562-3909, extension 230.

SUPPLEMENTARY INFORMATION:

Background

Section 4(b)(3)(D)(ii) of the Act and our listing regulations (50 CFR 424.14(c)(3)) require that within 12 months after receiving a petition that is found to present substantial information indicating that revision of a critical habitat may be warranted, we shall determine how we intend to proceed with the requested revision, and promptly publish notice of such intention in the Federal Register.

On August 26, 1999, Mr. Sidney Maddock, Biodiversity Legal Foundation, submitted a petition to us, on behalf of himself, the Biodiversity Legal Foundation, the Florida Biodiversity Project, Brian Scherf, and Rosalyn Scherf, to revise critical habitat for the Cape Sable seaside sparrow. We received the petition on August 31, 1999.

After considering the petition and review of all available scientific and commercial information, we found that the petition presented substantial information indicating that the requested action may be warranted. We published a notice announcing our finding in the Federal Register on July 10, 2000 (65 FR 42316).

We designated critical habitat for the sparrow on August 11, 1977 (42 FR 40685). Currently designated critical habitat encompasses about 76,883 hectares (189,979 acres) in the southern Everglades along the eastern flank of Shark River Slough and along Taylor Slough. Most of the critical habitat is on Federal or State managed lands, including portions of Everglades National Park managed by the National Park Service, and portions of the Southern Glades Wildlife and Environmental Area managed by the Florida Fish and Wildlife Conservation Commission. Major constituent elements within the designated critical habitat requiring special management considerations or protection were not described in detail in this designation.

At the time the sparrow was listed, limited published information was available on the species' natural history and habitat requirements, and existing research had been conducted primarily on the sparrow's eastern habitats. To fill these gaps, much detailed research was conducted on the sparrow during the 1990s. Recent research has focused on determining natural history parameters, demographic parameters, and management strategies for habitat and populations. Agencies or organizations involved in these efforts include Everglades National Park, U.S. Geological Survey—Biological Resources Division, Army Corps of Engineers (Corps), and the Florida Fish and Wildlife Conservation Commission. Concerted efforts since the early 1990s have resulted in annual rangewide breeding season surveys, investigation of non-breeding season habitat use and movements, population modeling, habitat management including exotic vegetation and fire control, and a revised recovery plan. These efforts have expanded and refined our knowledge about critical habitat for the sparrow. Monitoring required for consultations under section 7 of the Act has also contributed to our database regarding critical habitat.

We have reviewed the petition, the information provided in the petition, other literature, and information gathered since the previous critical habitat designation, as well as submitted comments and information. Based on the best scientific and commercial information available, we find that revision of critical habitat is warranted for the Cape Sable seaside sparrow. Based on this new information, some new areas will likely need to be added and others removed from the designation.

Section 4(b)(3)(D)(ii) of the Act provides that with a 12-month warranted finding, we shall determine how we intend to proceed with the requested revision and publish such notice of our intention in the Federal Register. We have determined that the revision is warranted and we intend to proceed according to the following steps:

Habitat Assessment

Criteria for designating critical habitat are provided in our regulations at 50 CFR 424. We must consider for inclusion in critical habitat those areas that meet physiological, behavioral, ecological, and evolutionary requirements that are essential to the conservation of a species and that may require special management considerations or protection. Such requirements include, but are not limited to: (1) Space for individual and population growth, and for normal behavior; (2) food, water, air, light, minerals, or other nutritional or physiological requirements; (3) cover or shelter; (4) sites for breeding, reproduction, rearing of offspring, germination, or seed dispersal; and (5) habitats that are protected from disturbance or are representative of the historic geographical and ecological distribution of a species.

When considering how to revise the designation of critical habitat, we will focus on the principal biological or physical constituent elements that are essential to the Cape Sable seaside sparrow's conservation. Known primary constituent elements will be listed with the critical habitat. Areas that contain these primary constituent elements must be determined for the sparrow.

We will designate as critical habitat areas essential to the conservation of the sparrow. The quantity and overall quality of habitat, ownership, land use, and connectivity with other sparrow habitat changes significantly from site to site. Once identified, the habitats must be delineated, mapped, and described for the proposed designation process. This process may include review of aerial photography, ownership maps, field ground truthing, locating landmarks or other geographical markers using survey techniques such as geographic positioning systems to locate latitude and longitude, with the final product being a usable map.

Economic Analysis

Section 4(b)(2) of the Act requires us to designate critical habitat on the basis of the best scientific and commercial data available and to consider the economic and other relevant impacts of designating a particular area as critical habitat. We will conduct the economic analysis for the proposed critical habitat designation prior to making a final determination. We may exclude areas from critical habitat upon a determination that the benefits of such exclusions outweigh the benefits of specifying such areas as critical habitat. We cannot exclude such areas from critical habitat when such exclusion will result in the extinction of the species.

Proposed Revision

We will develop and publish a proposed rule to revise critical habitat for the Cape Sable seaside sparrow as soon as feasible, considering our workload priorities and available funding. Currently, most of our listing budget must be directed to complying with numerous court orders, settlement agreements, litigation related activities, and due and overdue final listing determinations.

Coordination

We will coordinate with Federal, State, Tribal, local, and private landowners during the habitat assessment process.

At this time, we are part of the Federal government's efforts to improve water management in the Everglades, and thus conserve species, including the Cape Sable seaside sparrow, that depend on appropriate water levels. In 1999, we issued a Jeopardy Biological Opinion to the U.S. Army Corps of Engineers (Corps) for the Modified Water Deliveries to Everglades National Park project, Experimental Water Deliveries Program, and the C-111 Project proposed by the Corps in South Florida. This opinion contains Reasonable and Prudent Alternatives (RPAs) that address all of the currently known subpopulations of the Cape Sable seaside sparrow. These RPAs include elements that are designed to protect and improve the habitat of all of these subpopulations, regardless of whether the specific location of that habitat is currently designated as critical habitat. As a result of that Opinion, we have been working with the Corps, Everglades National Park, and the South Florida Water Management District to establish water-management practices that will achieve the aims of the RPAs, including protection and improvement of all known areas where sparrows have been documented since the early 1980s. Efforts for protection of the sparrow and its habitat in the near future will include coordination with the Florida Fish and Wildlife Conservation Commission and the Miccosukee Tribe of Indians. Through this section 7 process and our work with the Federal and State agencies in south Florida, we will continue to protect and improve habitat for the Cape Sable seaside sparrow.

Author

The primary author of this document is David Martin (see ADDRESSES section).

Authority

The authority for this action is the Endangered Species Act (16 U.S.C. 1531-1544).

Dated: October 17, 2001.
Marshall P. Jones, Jr.,
Director, Fish and Wildlife Service.

[FR Doc. 01-26746 Filed 10-22-01; 8:45 am]

BILLING CODE 4310-55-P